DEPARTMENT OF COMMERCE

International Trade Administration

[A-580-881]

Certain Cold-Rolled Steel Flat Products From the Republic of Korea: Final Results of Antidumping Duty Administrative Review; 2018-2019

AGENCY: Enforcement and Compliance, International Trade Administration, Department of Commerce.

SUMMARY: The Department of Commerce (Commerce) determines that certain cold-rolled steel flat products (cold-rolled steel) from the Republic of Korea were not sold in the United States at prices below normal value during the period of review (POR), September 1, 2018, through August 31, 2019.

DATES: Applicable July 29, 2021.

FOR FURTHER INFORMATION CONTACT: Michael J. Heaney, George McMahon, or Marc Castillo, AD/CVD Operations, Office VI, Enforcement and Compliance, International Trade Administration, U.S. Department of Commerce, 1401 Constitution Avenue NW, Washington, DC 20230; telephone: (202) 482-4475, (202) 482-1167, or (202) 482-5019, respectively.

SUPPLEMENTARY INFORMATION:

Background

On January 25, 2021, Commerce published the Preliminary Results of this administrative review.¹ We invited interested parties to comment on the Preliminary Results. Between February 24, and March 5, 2021, Commerce received timely filed case briefs and rebuttal briefs from United States Steel Corporation (U.S. Steel), additional domestic parties,² Hyundai Steel Company (Hyundai), and POSCO/POSCO International Corporation (POSCO).³ On May 14, 2021, we extended the deadline for issuing the final results until July 23, 2021.⁴

¹ See Certain Cold Rolled Steel Flat Products from the Republic of Korea: Preliminary Results of Antidumping Duty Administrative Review; 2018-2019, 86 FR 6871 (January 25, 2021) (Preliminary Results), and accompanying Preliminary Decision Memorandum (PDM).

² Additional domestic parties include ArcelorMittal USA LLC, AK Steel Corporation, and Cleveland-Cliffs Steel LLC (collectively, domestic producers).

³ See POSCO's Letter, “Cold Rolled Steel Flat Products from the Republic of Korea: POSCO's Case Brief,” dated February 24, 2021; see also Hyundai's Letter, “Cold Rolled Steel Flat Products from the Republic of Korea: Hyundai Steel's Case Brief,” dated February 24, 2021; U.S. Steel's Letter, “Certain Cold-Rolled Steel Flat Products From the Republic of Korea: Case Brief of United States Steel Corporation,” dated February 24, 2021; POSCO's Letter, “Cold Rolled Steel Flat Products From the Republic of Korea: POSCO's Rebuttal Brief,” dated March 5, 2021; Hyundai's Letter, “Cold Rolled Steel Flat Products From the Republic of Korea: Hyundai Steel's Rebuttal Brief,” dated March 5, 2021; US Steel's and Domestic Producers' Letter, “Cold-Rolled Steel Flat Products From South Korea: Rebuttal Brief of United States Steel Corporation,” dated March 5, 2021; and U.S. Steel and Domestic Producers' Letter, “Cold Rolled Steel Flat Products from Korea: Petitioners' Rebuttal Brief Concerning POSCO,” dated March 5, 2021.

⁴ See Memorandum, “Certain Cold-Rolled Steel Flat Products from the Republic of Korea: Extension of Deadline for Final Results of Antidumping Duty Administrative Review,” dated May 14, 2021.

For a complete description of the events that followed the Preliminary Results, see the Issues and Decision Memorandum, dated concurrently with these final results and hereby adopted by this notice.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html.

⁵ See Memorandum, “Issues and Decision Memorandum for the Final Results of the 2018-2019 Administrative Review of the Antidumping Duty Order on Certain Cold-Rolled Steel Flat Products from the Republic of Korea,” dated concurrently with, and hereby adopted by, this notice (Issues and Decision Memorandum).

This review covers three producers and exporters of the subject merchandise. Based on an analysis of the comments received, we made certain changes to the margin calculations. The weighted-average dumping margins are listed in the “Final Results of the Review” section of this notice. Commerce conducted this administrative review in accordance with section 751(a) of the Tariff Act of 1930, as amended (the Act).

Scope of the Order

The product covered by the Order ⁶ is cold-rolled steel from the Republic of Korea. For a complete description of the scope of the Order, see the Issues and Decision Memorandum.

⁶ See Certain Cold Rolled Steel Flat Products from Brazil, India, the Republic of Korea, and the United Kingdom: Amended Final Affirmative Antidumping Determinations for Brazil and the United Kingdom and Antidumping Duty Orders, 81 FR 64432 (September 20, 2016) (Order).

Analysis of Comments Received

All arguments raised in the case and rebuttal briefs are listed in the appendix to this notice and addressed in the Issues and Decision Memorandum.

Changes Since the Preliminary Results

Based on our analysis of the comments received, we made certain changes to the margin calculations for Hyundai Steel Company (Hyundai) and POSCO/POSCO International Corporation (POSCO). For a discussion of these changes, see the “Margin Calculations” section of the Issues and Decision Memorandum.⁷

⁷ See Issues and Decision Memorandum; see also Memorandum, “Final Determination Calculations for Hyundai,” dated concurrently with this notice; and Memorandum, “Final Determination Calculations for POSCO/PIC,” dated concurrently with this notice.

Rate for Non-Examined Company

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.” Section 735(c)(5)(B) of the Act also provides that, where all rates for individually examined companies are zero, de minimis, or based entirely on facts available, Commerce may use “any reasonable method” for assigning the rate to all other respondents. The SAA states that one such reasonable method is to weight-average the rates that are zero, de minimis, and based entirely on facts available.⁸

⁸ See Statement of Administrative Action Accompanying the Uruguay Round Agreements Act, H.R. Doc. 103-316, vol. 1 (1994) at 873 (1994) (SAA).

For these final results, we calculated weighted-average dumping margins for Hyundai and POSCO that are zero percent, and we have assigned this zero percent rate to the company not individually examined in this review (i.e., KG Dongbu Steel Co., Ltd) pursuant to section 735(c)(5)(B) of the Act.⁹

⁹ See Albemarle Corp. v. United States, 821 F.3d 1345 (Fed. Cir. 2016).

Final Results of Review

Commerce determines that the following weighted-average dumping margins exist for the period September 1, 2018, through August 31, 2019:

Producers/exporters | Weighted-average dumping margin (percent)
Hyundai Steel Company | 0.00
POSCO/POSCO International Corporation ¹⁰ | 0.00
KG Dongbu Steel Co., Ltd ¹¹ | 0.00

Disclosure

¹⁰ Commerce has collapsed POSCO and POSCO International Corporation (PIC), treating these companies as a single entity. Commerce also finds that PIC is the successor-in-interest to POSCO Daewoo Corporation (PDW), and, as a consequence, is part of the collapsed POSCO single entity. See Memorandum, “Cold-Rolled Steel Flat Products from the Republic of Korea: POSCO and POSCO International Corporation Affiliation and Collapsing Memorandum,” dated January 15, 2021 at 9-10.

¹¹ Commerce determined that KG Dongbu Steel Co., Ltd. (KG Dongbu Steel) is the successor-in-interest to Dongbu Steel Co., Ltd. (Dongbu Steel) and Dongbu Incheon Steel Co., Ltd. (Dongbu Incheon) for purposes of determining antidumping duty (AD) cash deposits and liabilities pursuant to the AD orders on certain cold-rolled steel and certain corrosion resistant steel products from Korea. See Certain Cold-Rolled Steel Flat Products and Certain Corrosion-Resistant Steel Products from the Republic of Korea: Preliminary Results of Antidumping Duty and Countervailing Duty Changed Circumstance Reviews, 86 FR 287 (January 5, 2021), unchanged in Certain Cold-Rolled Steel Flat Products and Certain Corrosion-Resistant Steel Products from the Republic of Korea: Final Results of Antidumping and Countervailing Duty Changed Circumstances Reviews, 86 FR 10922 (February 23, 2021).

Commerce intends to disclose the calculations performed for these final results within five days of the date of publication of this notice in the Federal Register, to parties in this proceeding, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

Pursuant to 19 CFR 351.212(b)(1), where the respondent did not report entered value, we calculated the entered value in order to calculate the assessment rate. Where the respondent's weighted-average dumping margin is zero or de minimis within the meaning of 19 CFR 351.106(c)(1), or an importer-specific rate is zero or de minimis, we will instruct CBP to liquidate the appropriate entries without regard to antidumping duties. In accordance with Commerce's practice, for entries of subject merchandise during the POR for which the reviewed companies did not know that the merchandise was destined for the United States, we will instruct CBP to liquidate such entries at the all-others rate if there is no company-specific rate for the intermediate company(ies) involved in the transaction.¹²

¹² See Antidumping and Countervailing Duty Proceedings: Assessment of Antidumping Duties, 68 FR 23954 (May

6, 2003).

The final results of this review shall be the basis for the assessment of antidumping duties on entries of merchandise covered by the final results of this review and for future deposits of estimated duties, where applicable.¹³ Consistent with its recent notice,¹⁴ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹³ See section 751(a)(2)(C) of the Act.

¹⁴ See Notice of Discontinuation Policy to Issue Liquidation Instructions After 15 Days in Applicable Antidumping and Countervailing Duty Administrative Proceedings, 86 FR 3995 (January 15, 2021).

Cash Deposit Requirements

The following cash deposit requirements will be effective for all shipments of the subject merchandise entered, or withdrawn from warehouse, for consumption on or after the publication date of the final results of this administrative review, as provided by section 751(a)(2)(C) of the Act: (1) The cash deposit rate for each specific company listed above will be zero; (2) for previously investigated companies not participating in this review, the cash deposit will continue to be the company-specific rate published for the most recently completed segment of this proceeding; (3) if the exporter is not a firm covered in this review, or the original less-than-fair-value (LTFV) investigation, but the manufacturer is, then the cash deposit rate will be the rate established for the most recent segment for the manufacturer of the merchandise; and (4) the cash deposit rate for all other manufacturers or exporters will continue to be 20.33 percent,¹⁵ the all-others rate established in the LTFV investigation. These deposit requirements, when imposed, shall remain in effect until further notice.

¹⁵ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

Commerce is issuing and publishing this notice in accordance with sections 751(a)(1) and 777(i)(1) of the Act, and 19 CFR 351.221(b)(4).

Dated: July 23, 2021.
Christian Marsh,
Acting Assistant Secretary for Enforcement and Compliance.

Appendix

List of Topics Discussed in the Issues and Decision Memorandum

I. Summary

II. Background

III. Scope of the Order

IV. Changes Since the Preliminary Results

V. Rate for Non-Examined Company

VI. Discussion of the Issues

Comment 1-A: Lawfulness of Commerce's Interpretation of the Particular Market Situation (PMS) Provision

Comment 1-B: Evidence of a PMS

Comment 1-C: Quantification of PMS Adjustment

Comment 2: Constructed Export Price (CEP) Offset for POSCO

Comment 3: Correction of Calculation Errors

Comment 4: Whether Hyundai's Cost Accounting Merits Adverse Facts Available (AFA)

Comment 5: Assignment of an Assessment Rate to a Certain U.S. Affiliate

VII. Recommendation

[FR Doc. 2021-16172 Filed 7-28-21; 8:45 am]

BILLING CODE 3510-DS-P